DEPARTMENT OF ENERGY

Federal Energy Regulatory Commission

Combined Notice of Filings

Take notice that the Commission has received the following Natural Gas Pipeline Rate and Refund Report filings:

Filings Instituting Proceedings

Docket Number: PR16-53-000.

Applicants: SourceGas Distribution LLC.

Description: Tariff filing per 284.123(e) + (g): Revised statement of Operating Conditions to be effective 4/25/2016; Filing Type: 1280.

Filed Date: 5/13/2016.

Accession Number: 201605135093 http://elibrary.ferc.gov/idmws/doc_info.asp?accession_num=20160415-5222.

Comments Due: 5 p.m. ET 6/3/16.

284.123(g) Protests Due: 5 p.m. ET 7/12/16.

Docket Numbers: RP16-928-000.

Applicants: Alliance Pipeline L.P.

Description: Section 4(d) Rate Filing: May 1-31 2016 Revised to be effective 5/1/2016.

Filed Date: 5/4/16.

Accession Number: 20160504-5227.

Comments Due: 5 p.m. ET 5/20/16.

Docket Numbers: RP16-945-000.

Applicants: Rockies Express Pipeline LLC.

Description: Section 4(d) Rate Filing: Neg Rate 2016-05-12 Sempra to be effective 5/6/2016.

Filed Date: 5/12/16.

Accession Number: 20160512-5221.

Comments Due: 5 p.m. ET 5/24/16.

Docket Numbers: RP16-946-000.

Applicants: Texas Gas Transmission, LLC.

Description: Compliance filing Compliance Filing in Docket No. CP15-14 (SIML) to be effective 6/13/2016.

Filed Date: 5/13/16.

Accession Number: 20160513-5050.

Comments Due: 5 p.m. ET 5/25/16.

Docket Numbers: RP16-947-000.

Applicants: Texas Gas Transmission, LLC.

Description: Compliance filing Compliance filing in Docket No. CP15-14-000 to submit Neg Rate Agmts to be effective 7/1/2016.

Filed Date: 5/13/16.

Accession Number: 20160513-5052.

Comments Due: 5 p.m. ET 5/25/16.

Docket Numbers: RP16-948-000.

Applicants: Texas Gas Transmission, LLC.

Description: Section 4(d) Rate Filing: Modify Backhaul Add'l Zone Letter Agmt to be effective 6/13/2016.

Filed Date: 5/13/16.

Accession Number: 20160513-5053.

Comments Due: 5 p.m. ET 5/25/16.

Docket Numbers: RP16-949-000.

Applicants: Alliance Pipeline L.P.

Description: Section 4(d) Rate Filing: May 14—31 2016 Service to be effective 5/14/2016.

Filed Date: 5/13/16.

Accession Number: 20160513-5145.

Comments Due: 5 p.m. ET 5/25/16.

Docket Numbers: RP16-950-000.

Applicants: National Fuel Gas Supply Corporation.

Description: Section 4(d) Rate Filing: Non-Conforming FT (United Refining) to be effective 4/25/2016.

Filed Date: 5/13/16.

Accession Number: 20160513-5151.

Comments Due: 5 p.m. ET 5/25/16.

Docket Numbers: RP16-951-000.

Applicants: Monroe Gas Storage Company, LLC.

Description: Section 4(d) Rate Filing: MGS Firm Wheeling to be effective 6/13/2016.

Filed Date: 5/13/16.

Accession Number: 20160513-5162.

Comments Due: 5 p.m. ET 5/25/16.

Docket Numbers: RP16-952-000.

Applicants: Mercuria Energy America, Inc., Mercuria Energy Gas Trading LLC.

Description: Joint Petition for Temporary Waiver of Commission Policies, Capacity Release Regulations and Related Tariff Provisions of Mercuria Energy America, Inc., and Mercuria Energy Gas Trading LLC under RP16-952.

Filed Date: 5/13/16.

Accession Number: 20160513-5217.

Comments Due: 5 p.m. ET 5/20/16.

Docket Numbers: RP16-953-000.

Applicants: Questar Southern Trails Pipeline Company.

Description: Annual Report of Fuel Gas Reimbursement Percentage for 2016 of Questar Southern Trails Pipeline Company.

Filed Date: 5/16/16.

Accession Number: 20160516-5402.

Comments Due: 5 p.m. ET 5/31/16.

Docket Numbers: RP16-954-000.

Applicants: White River Hub, LLC.

Description: Annual Report of Fuel Gas Reimbursement Percentage for 2016 of White River Hub, LLC.

Filed Date: 5/16/16.

Accession Number: 20160516-5403.

Comments Due: 5 p.m. ET 5/31/16.

Docket Numbers: RP16-955-000.

Applicants: DBM Pipeline, LLC.

Description: Section 4(d) Rate Filing: Substitute Tariff Record to be effective 5/11/2016.

Filed Date: 5/17/16.

Accession Number: 20160517-5078.

Due: 5 p.m. ET 5/31/16.

Docket Numbers: RP16-956-000.

Applicants: Equitrans, L.P.

Description: Section 4(d) Rate Filing: Negotiated Rate Service Agreement—Triad Hunter effective 6-1-2016 to be effective 6/1/2016.

Filed Date: 5/17/16.

Accession Number: 20160517-5098.

Comments Due: 5 p.m. ET 5/24/16.

Docket Numbers: RP16-957-000.

Applicants: Kinetica Deepwater Express, LLC.

Description: Cost and Revenue Study of Kinetica Deepwater Express, LLC.

Filed Date: 5/17/16.

Accession Number: 20160517-5115.

Comments Due: 5 p.m. ET 5/31/16.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified date(s). Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: May 18, 2016.
Nathaniel J. Davis, Sr.,
Deputy Secretary.

[FR Doc. 2016-12202 Filed 5-23-16; 8:45 am]

BILLING CODE 6717-01-P